DEPARTMENT OF HEALTH AND HUMAN SERVICES

Substance Abuse and Mental Health Services Administration

Clarification—Fiscal Year (FY) 2000 Funding Opportunities Notice

AGENCY: Center for Substance Abuse Treatment, Substance Abuse and Mental Health Services Administration, HHS.

ACTION: Clarification of a Notice of Funding Availability Regarding the Substance Abuse and Mental Health Services Administration (SAMHSA) Center for Substance Abuse Treatment (CSAT) PRC Implementation Program Funding Announcement.

SUMMARY: This notice is to inform the public that a statement in the SAMHSA/CSAT Guidance for Applicants No. TI 00-004 entitled, Cooperative Agreement to Bridge the Gap: Phase II Implementation of Community-Based Practice/Research Collaboratives (Short Title: PRC Implementation Program) has been clarified. The Notice of Funding Availability for the PRC Implementation Program was published in the Federal Register on March 28, 2000 (65 FR 16401-16403).

A sentence in the last paragraph of Section II—Program Description, subsection 3, Pilot and Knowledge Application Evaluation Studies, has been clarified by adding the words “per year.” The revised sentence reads: “No single Knowledge Application Evaluation Study should exceed $75,000 in direct costs per year.” The full Guidance for Applicants is available via the SAMHSA web site—www.samhsa.gov, or from the National Clearinghouse for Alcohol and Drug Information (Telephone: 800-729-6686).

Questions concerning the clarification or other program issues may be directed to: Frances Cotter, Project Director, Office of Managed Care, Center for Substance Abuse Treatment, SAMHSA, Rockwall II, Suite 740, 5600 Fishers Lane, Rockville, MD 20857, Telephone: (301) 443-8796.

Dated: April 24, 2000.
Richard Kopanda,
Executive Office, Substance Abuse and Mental Health Services Administration.

[FR Doc. 00-10838 Filed 5-1-00; 8:45 am]

BILLING CODE 4162-20-P